ENVIRONMENTAL PROTECTION AGENCY

[FRL-6728-3]

Community Based In-Home Asthma Environmental Education and Management

AGENCY: Environmental Protection Agency.

ACTION: Request for grant proposals.

SUMMARY: Request for Proposals for Community Based In-Home Asthma Environmental Education and Management. This is an announcement of the availability of FY 2000 grant funds for the Environmental Protection Agency's (EPA) Indoor Environments Division/Office of Radiation and Indoor Air. Section 103(a)(1) of the Clean Air Act authorizes the Administrator to conduct and promote the coordination and acceleration of research, investigations, experiments, demonstrations, surveys and studies relating to the causes, effects (including health and welfare effects), extent, prevention, and control of air pollution by ((b)(3)) making grants to air pollution control agencies, to other public or nonprofit private agencies, institutions, and organizations, and to individuals, for purposes stated in 103(a)(1). The intended use of these funds is to support pilot studies of asthma education, including asthma management and indoor asthma trigger identification/mitigation, in existing Community-Based In-Home Environmental Management or Education programs. EPA is awarding these grants to support the recipients to conduct pilot studies of in-home asthma education and assess the effectiveness of their in-home approaches to educating children with asthma, their parents and/or primary care givers, and other people with asthma, including how to identify the indoor triggers to which the asthmatic(s) in the household may be sensitive, and how to mitigate them. EPA plans to award two grants to each of two organizations for $100,000.00 each, however the final number of awards and award amounts may vary depending on proposal quality and resource availability.

DATES: Letter of Intent due by July 7, 2000. Pre-application Assistance Conference Call dates are:

1. July 11, 2000, 12 noon until 2pm Eastern Daylight Time

2. July 14, 2000, 12 noon until 2pm Eastern Daylight Time

Application Deadline: Postmarked no later than August 7, 2000.

ADDRESSES: Send Letter of Intent and Applications to the attention of Sheila Brown, U.S. Environmental Protection Agency, 1200 Pennsylvania Avenue, NW. (6609J), Washington, DC 20460

FOR FURTHER INFORMATION CONTACT: Sheila Brown (202) 564-9370

SUPPLEMENTARY INFORMATION: The focus for funding is to: (a) Reduce the impact of in-home environmental asthma triggers on children and adults with asthma; (b) strengthen the capacity of individual households to control in-home environmental asthma triggers; and (c) assess the effectiveness and sustainability of strategies for in-home environmental asthma trigger management and education within communities. Completed applications, including work plans and detailed budgets, are due to the Indoor Environments Division no later than August 7, 2000. If you intend to apply, you must send a letter of intent postmarked no later than July 7, 2000 to Attention: Sheila Brown,1200 Pennsylvania Avenue, N.W. (6609J), Washington, D.C. 20460, or an e-mail to <brown.sheila@epa.gov> no later than 3 pm (EDT) on July 7, 2000, indicating the name of your organization, the name and phone number of a contact person in the organization, whether you expect to participate in one of the pre-award technical assistance conference calls (see page 5), and if so, on which day. Should demand exceed capacity, we will schedule an additional call and inform you by telephone of the date and time.

Eligibility Criteria

To be eligible for funding, an applicant must:

(1) Demonstrate the ability to implement an in-home education program which includes: In-home identification and assessment of potential indoor environmental asthma triggers; direct one-on-one education in the home on asthma, asthma management, and mitigation of indoor environmental triggers to which household members with asthma may be sensitive;

(2) Meet the standards for eligibility as identified in Section 103 (3)(b) of the Clean Air Act (page 1, paragraph 1);

(3) Request no more than $100,000.00 to accomplish pilot project objectives;

(4) Properly complete and submit standard form SF-424 and a work plan no greater than seven pages in length (in no smaller than 12 point type) by the established due date;

(5) Commit to complete the proposed pilot project activities within 18-24 months of grant award.

Ranking Criteria

Applications will be ranked on the basis of the criteria listed below. Ranking for each criterion is based on a scale of 1 (does not meet the requirement) to 10 (exceeds the requirement).

(1) Applicant organization currently is established and operates within a base community, performing community level work. (1-10 points).

(2) Applicant organization currently is, or is affiliated with, an established in-home environmental management and/or education program. (1-10 points)

(3) Education materials and assessment tools developed or selected for use in conducting in-home education and assessment pilot project activities address established indoor environmental triggers of asthma including: environmental (secondhand) tobacco smoke, house dust mites, cockroaches, molds, and animal dander. Materials are compatible with the guidance contained in EPA's asthma brochure, “Clear Your Home Of Asthma Triggers: Your Children Will Breathe Easier” (http://www.epa.gov/iaq/pubs/asthma.html) and the findings and recommendations contained in the January, 2000 National Academy of Sciences report on asthma, “Clearing the Air: Asthma and Indoor Air Exposures” (http://books.nap.edu/catalog/9610.html). (1-10 points)

(4) Mitigation methods for environmental (secondhand) tobacco smoke, house dust mites, cockroaches, molds, and animal dander included among the pilot project activities are compatible with the guidance in EPA's asthma brochure, “Clear Your Home Of Asthma Triggers: Your Children Will Breathe Easier” (http://www.epa.gov/iaq/pubs/asthma.html) and the findings and recommendations contained in the January, 2000 National Academy of Sciences report on asthma, “Clearing the Air: Asthma and Indoor Air Exposures” (http://books.nap.edu/catalog/9610.html). (1-10 points)

(5) Education materials and assessment tools selected for the pilot project reflect current standards for conducting public health education and outreach activities, particularly with respect to motivating behavioral changes in low-literacy, low-income, and disproportionately impacted populations. (1-10 points)

(6) Applicant adequately describes mechanisms for obtaining feedback about program effectiveness from households after the in-home education assessment visit(s). (1-10 points)

(7) Applicant agrees to provide quarterly performance reports to EPA which shall include, at a minimum, information about: the number of homes visited, the number of children and adults with asthma educated, the number of homes in which indoor environmental triggers have been identified, and the number of households in which mitigation actions have been taken. (1-10 points)

(8) The project demonstrates the effectiveness of education strategies that are appropriate to varied populations and geographic locations in the United States, and contributes to an improved understanding of how to conduct in-home asthma education programs. (1-10 points)

Application Process

Applicants must complete standard form 424 (http://www.whitehouse.gov/omb/grants/sf424.pdf) and submit a work plan no greater than five pages in length (12 point type). The work plan must include: (1) A summary of specific objectives, expected outcomes, and deliverables; and (2) a discussion of the budget and how the budget relates to the objectives, outcomes, and deliverables in the work plan. Resumes and supplementary biographical information, if any, should not exceed an additional two pages. The project work plan submitted with the completed application SF-424 should conform to the following outline:

(1) Title.

(2) Description of the applicant organization, experience in community work (especially with children and adults with asthma), existing in-home education efforts, existing indoor air quality/asthma activities, and the organization's infrastructure as it relates to its ability to do in-home assessments and/or education programs.

(3) Description of staffing and funding resources needed to implement proposed work plans, including number of staff and qualifications.

(4) Description of experience implementing evaluation and tracking procedures and managing grants (e.g., submitting reports, budgets, etc.).

(5) Project Period—beginning and ending dates.

(6) Project purpose.

(7) Description of basic structure of the in-home asthma education and assessment pilot project proposed, curricula and assessment tools to be used, and resource lists including references. Describe why the curricula and protocols were selected or created; what other materials you may have considered (including reasons for not selecting them); and, if possible, a discussion of how the asthma education approaches you wish to demonstrate compare or contrast to other known approaches.

(8) Description of target audiences, community, and any special asthma-related demographics of areas targeted for this work.

(9) Description of mechanisms for question resolution and follow-up with asthmatics and their families and/or primary care givers following in-home visit(s). Reasons for selecting or creating these mechanisms and, if possible, a discussion of how the selected mechanisms compare to other available mechanisms.

(10) Description of any types of follow-up materials or training that may be given to the households such as community resource lists, household repair and maintenance training, lessons on how to obtain services in the community, etc.

(11) Definition of success for the project and how success will be measured. Describe mechanisms for tracking program outputs (e.g., how many households were educated, how many homes were assessed, in how many homes actions were taken), summarizing and characterizing program outcomes (i.e., the effectiveness of the education and mitigation methods, the level of increased awareness).

(12) Identification of other localities, regions, or states that might benefit from the lessons you expect to learn as a result of your pilot project.

(13) Schedule—indicate tasks, quarterly report submission and final report submission dates.

(14) Budget. Indicate funds used for salaries, materials, equipment, contracted activities, travel, overhead, and other pertinent information.

If you would like to apply for assistance under the Community Based In-Home Asthma Environmental Education and Management program, application materials are available at the web addresses listed below or by calling the Indoor Environments Division at (202) 564-9370. The application kit contains the following information:

—Application for Federal Assistance— http://www.epa.gov/region4/grantpgs/grants.htm)

—Instructions for completing the application

—Assurances/certifications

An original application and one copy must be received at the following address no later than close of business on Monday, August 7, 2000:

Mailing Address: Attn: Sheila Brown, Environmental Protection Agency, Indoor Environments Division, In-Home Program (6609J), 1200 Pennsylvania Avenue, NW., Washington, DC 20460

Courier Address: Attn: Sheila Brown, Environmental Protection Agency, Indoor Environments Division, In-Home Program (6609J), 501 3rd Street, NW., Washington, DC 20001

Questions regarding the administrative aspects and programmatic aspects, including work plan, should be referred to Sheila Brown (202) 564-9370. Two pre-application assistance conference calls have been scheduled to help prospective applicants:

1. Tuesday, July 11, 2000 from 12 noon until 2pm Eastern Daylight Time. Call in number (202) 260-1015, then dial access code 9490#

2. Thursday, July 14, 2000 from 12 noon until 2pm Eastern Daylight Time. Call in number (202) 260-7280, then dial access code 0792#

Twenty lines have been reserved for each call. To ensure access, please follow the instructions for submitting the letter of intent described on page 1 of this announcement.

In addition, prospective applicants should obtain a copy of the Code of Federal Regulations (CFR) Title 40, Part 30 (and for State and local agencies, also see Part 31). This portion of the CFR includes regulations applicable to your assistance agreement. Copies of the CFR are available at your local U.S. Government Bookstore, the U.S. Government Printing Office or on the internet at http://www.epa.gov/ogd/grants.htm. Once at this site, select “Administrative Regulations and Policies/Subchapter B-Grants and Other Federal Assistance” and select Part 30 or Part 31.

Selected projects will be announced on or around October 15, 2000. If you have any questions regarding this grant notice, please contact Sheila Brown (202) 564-9370.

Authority: 42 U.S.C. 7401-7626; Pub. L. 159, 69 Stat. 322.

Dated: June 26, 2000.
Robert Perciasepe,
Assistant Administrator of Air and Radiation.

[FR Doc. 00-16763 Filed 6-30-00; 8:45 am]

BILLING CODE 6560-50-U